DEPARTMENT OF THE INTERIOR

Bureau of Land Management

[ES-960-1910-BK, Group 26, Maine]

Notice of Filing of Plat of Survey; Maine

The plat of the dependent resurvey of the boundaries of lands held in trust by the United States, for the Aroostook Band of Micmacs, in Presque Isle, Aroostook County, Maine, known as the “Bonaire Housing Complex”, will be officially filed in Eastern States, Springfield, Virginia, 30 calendar days from the date of publication in the Federal Register.

The survey was requested by the Bureau of Indian Affairs.

All inquiries or protests concerning the technical aspects of the survey must be sent to the Chief Cadastral Surveyor, Eastern States, Bureau of Land Management, 7450 Boston Boulevard, Springfield, Virginia 22153.

Copies of the plat will be made available upon request and prepayment of the reproduction fee of $2.75 per copy.

Michael Young,
Cadastral Chief, Eastern States.

[FR Doc. E6-17560 Filed 10-19-06; 8:45 am]

BILLING CODE 4310-GJ-P